DEPARTMENT OF TRANSPORTATION

Federal Aviation Administration

14 CFR Part 71

[Docket No. FAA-2003-16207; Airspace Docket No. 03-ANM-10]

Modification of Class E Airspace; Polson, MT

AGENCY: Federal Aviation Administration, (FAA), DOT.

ACTION: Final rule.

SUMMARY: This final rule will modify the Class E airspace at Polson, MT. New Area Navigation (RNAV) Global Positioning System (GPS) Standard Instrument Approach Procedures (SIAPs) have been developed at Polson Airport making it necessary to increase the area of controlled airspace. This additional Class E airspace extending upward from 700 feet or more above the surface of the earth is necessary for the safety of Instrument Flight Rules (IFR) aircraft executing these new SIAPs and when transitioning to/from the en route environment.

EFFECTIVE DATE: 0901 UTC, April 15, 2004.

FOR FURTHER INFORMATION CONTACT: Ed Haeseker, Air Traffic Division, Federal Aviation Administration, 1601 Lind Avenue SW., Renton, Washington 98055-4056; telephone (425) 227-2527.

SUPPLEMENTARY INFORMATION:

History

On November 26, 2003, the FAA proposed to amend Federal Aviation Regulations 14 CFR part 71 to modify Class E airspace at Polson, MT, (68 FR pages 66387-66388). This proposal was to modify Class E airspace extending upward from 700 or more above the surface of the earth to contain IFR operations within controlled airspace during the terminal phase and when transitioning to/from the en route environments.

Interested parties were invited to participate in this rule making proceeding by submitting written comments on the proposal to the FAA. No comments were received. Class E airspace areas extending upward from 700 feet or more above the surface of the earth are published in paragraph 6005 of FAA Order 7400.9L dated September 02, 2003, and effective September 16, 2003, which is incorporated by reference in 14 CFR part 71.1. The Class E airspace designations listed in this document will be published subsequently in that order.

The Rule

This amendment to 14 CFR part 71 will modify Class E airspace at Polson, MT, to accommodate aircraft executing newly developed RNAV GPS SIAPs. The new procedures make it necessary to increase the area of controlled airspace. Additional Class E airspace extending upward from 700 feet or more above the surface of the earth is necessary to provide adequate controlled airspace for the safety of IFR aircraft executing these new RNAV GPS SIAPs and during transition to/from the en route environment.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

Accordingly, pursuant to the authority delegated to me, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9L, Airspace Designations and Reporting Points, dated September 02, 2003, and effective September 16, 2003, is amended as follows:

Paragraph 6005 Class E airspace areas extending upward from 700 feet or more above the surface of the earth.

* * * * *

ANM MT E5 Polson, MT [Revised]

Polson Airport, Polson, MT (Lat. 47°41′44″ N., long. 114°11′07″ W.)

That airspace extending upward from 700 feet above the surface of the earth bounded by a line beginning at lat. 47°49′55″ N., long. 114°13′30″ W.; to lat. 47°47′00″ N., long. 114°01′00″ W.; to lat. 47°31′45″ N., long. 114°10′10″ W.; to lat 47°35′35″ N., long. 114°22′35″ W.; thence to point of origin; excluding that airspace within Federal airways.

* * * * *

Issued in Seattle, Washington, on January 22, 2004.
Raul C. Treviño,
Acting Manager, Air Traffic Division, Northwest Mountain Region.

[FR Doc. 04-2180 Filed 2-2-04; 8:45 am]

BILLING CODE 4910-13-M